DEPARTMENT OF COMMERCE

National Institute of Standards and Technology

[Docket Number: 150406348-5348-01]

Notice of Public Workshop and Request for Public Comments on the Draft Community Resilience Planning Guide for Buildings and Infrastructure Systems

AGENCY: National Institute of Standards and Technology, U.S. Department of Commerce.

ACTION: Notice of public workshop; request for public comments.

SUMMARY: On Monday, April 27, 2015, the National Institute of Standards and Technology (NIST) will release the Draft Community Resilience Planning Guide (CRPG) for Buildings and Infrastructure Systems, consisting of two volumes totaling approximately 350 pages, and requests public comments on the draft document. On the same day, NIST will hold a public workshop at Texas Southern University in Houston, TX to present and discuss the Draft CRPG. The agenda will consist of an overview of the NIST Community Resilience Program and an introduction to volumes one (1) and two (2) of the Draft CRPG. A panel of regional and local government representatives will provide insight into their experience with community resilience and how they plan to implement the CRPG in their community. This will be followed by a moderated discussion with participants regarding the opportunities and challenges of implementing the methodology. The Draft CRPG and a suggested comment template will be posted on the NIST Web site at: http://www.nist.gov/el/building_materials/resilience/framework.cfm. NIST will consider all comments received from the public submitted in accordance with the DATES and ADDRESSES sections below.

DATES: NIST will release the Draft Community Resilience Planning Guide (CRPG) for Buildings and Infrastructure Systems on Monday, April 27, 2015, and will hold the 5th Disaster Resilience Workshop on Monday, April 27, 2015, between from 8:30 a.m. and 4 p.m. Central Time at Texas Southern University. Limited onsite registration is available, please contact Steve Cauffman. The public comment period opens on Monday, April 27, 2015, and comments must be received by 11:59 p.m. Eastern Time on Friday, June 26, 2015.

ADDRESSES: Written comments may be submitted by email to resilience@nist.gov, by fax to 301-990-6891, or by mail to: NIST Community Resilience Program, Attention: Mr. Stephen Cauffman, National Institute of Standards and Technology, 100 Bureau Drive Stop 8615, Gaithersburg, MD 20899-8615. All comments will be made publicly available at http://www.nist.gov/el/building_materials/resilience/framework.cfm. Accordingly, personal, proprietary or confidential information should not be included.

The 5th NIST Community Resilience Workshop will be held at Texas Southern University, 3100 Cleburne Street, Houston, TX 77004. Please note admittance instructions under the SUPPLEMENTARY INFORMATION section of this notice. Additional information on the workshop, including the online registration link, is posted at: http://www.nist.gov/el/building_materials/resilience/5th-disaster-resilience-workshop.cfm.

FOR FURTHER INFORMATION CONTACT: Questions regarding either the workshop or request for public comments should be addressed to Mr. Steve Cauffman by email at stephen.cauffman@nist.gov or by telephone at 301-975-6051. Please direct media inquiries to NIST's Office of Public Affairs at (301) 975-2762.

SUPPLEMENTARY INFORMATION: NIST will release the Draft Community Resilience Planning Guide (CRPG) for Buildings and Infrastructure Systems for public comment on Monday, April 27, 2015, and it will be posted at http://www.nist.gov/el/building_materials/resilience/framework.cfm. The CRPG is being issued in a draft form with a 60-day public comment period. Public comments will be accepted until 11:59 p.m. Eastern Time on Friday, June 26, 2015.

NIST established a program in Community Resilience to conduct research and develop guidance that improves the way communities prepare for, withstand, and recover from disruptive events, such as natural hazards. The Draft CRPG has benefitted from the input of private and public sector stakeholders and experts, with a wide range of expertise in areas including but not limited to community planning, disaster recovery, emergency management, business continuity, insurance/re-insurance, state and local government, design, construction, and maintenance of infrastructure (buildings, water and wastewater, electric power, communications, transportation), and standards and code development. The Framework is intended to provide local governments with a methodology for including resilience in their long term community development planning process and to provide a means to facilitate engagement with external stakeholders that have a role in ensuring community resilience.

Public Workshop: The 5th NIST Community Resilience Workshop will be held on Monday April 27th at Texas Southern University, 3100 Cleburne Street, Houston, TX 77004 from 8:30 a.m. until 4:00 p.m. Central Time. The workshop will provide an overview of the Draft CRPG, describe its application, and present a panel of emergency planners and other local and regional representatives who will discuss the potential utility of the new tool for their communities and respond to questions from attendees. NIST encourages the attendance of anyone with an interest in improving the resilience of U.S. communities, including those with knowledge or expertise in community planning, disaster recovery, emergency management, business continuity, insurance/re-insurance, state and local government, design, construction, and maintenance of infrastructure (buildings, water and wastewater, electric power, communications, transportation), and standards and code development. Limited onsite registration is available, please contact Steve Cauffman by email at stephen.cauffman@nist.gov or by telephone at 301-975-6051. Additional information on the workshop, including the online registration link, is posted at: http://www.nist.gov/el/building_materials/resilience/5th-disaster-resilience-workshop.cfm.

Request for Public Comment: Persons interested in commenting on the Draft CRPG can submit their written comments using the suggested template posted on the NIST Web site at: http://www.nist.gov/el/building_materials/resilience/framework.cfm or in other formats. All comments received in response to this notice will become part of the public record and will be posted on the NIST Web site at: http://www.nist.gov/el/building_materials/resilience/framework.cfm.

Comments containing references, studies, research, and other empirical data that are not widely published should include copies of the referenced materials. All comments will be made publicly available; therefore personal, proprietary or confidential information should not be included. All comments must be received by NIST by 11:59 p.m. Eastern Time on Friday, June 26, 2015 in accordance with the DATES and ADDRESSES sections of the notice above. Comments received after this time will not be considered.

Kevin Kimball,
Chief of Staff.

[FR Doc. 2015-09767 Filed 4-23-15; 11:15 am]

BILLING CODE 3510-13-P